DEPARTMENT OF DEFENSE

Department of the Army

Notice of Availability (NOA) for the Final Environmental Impact Statement (EIS) for the Transformation of the 2nd Brigade, 25th Infantry Division (Light) to a Stryker Brigade Combat Team (SBCT) in Hawaii

AGENCY: Department of the Army, DoD.

ACTION: Notice of Availability.

SUMMARY: The Proposed Action includes training to be conducted at Schofield Barracks Military Reservation (SBMR), Dillingham Military Reservation, Kahuku Training Area and Kawailoa Training Area on the island of Oahu and at Pōhakuloa Training Area on the island of Hawaii. Twenty-eight projects are proposed that would improve the existing support structure and facilities to provide the necessary field training required for an SBCT. These projects include construction of ranges, airfield upgrades, land acquisition, and new equipment such as new and modernized vehicles (namely the Stryker, an eight-wheeled, 20-ton combat vehicle) and weapons systems (105mm cannon, 155 mm howitzer, and 120mm mortar). The number of soldiers and vehicles stationed at SBMR also would increase. The Army would acquire land on the island of Oahu (approximately 1,400 acres) and on the island of Hawaii. (approximately 23,000 acres) for training areas and road construction.

DATES: The waiting period for the Final EIS will end 30 days after publication of the NOA in the Federal Register by the U.S. Environmental Protection Agency.

ADDRESSES: Direct questions and/or written comments regarding the Final EIS to, or a request for a copy of the document from, Ms. Cindy Barger, U.S. Army Corps of Engineers, Honolulu Engineer District, Program and Project Management, Attention: CEPOH-PP-E (Barger), Building 230, Room 306, Fort Shafter, Hawaii 96858-5540.

FOR FURTHER INFORMATION CONTACT: Ms. Cindy Barger at (808) 438-4812; by facsimile at (808) 438-7801; or by e-mail at SBCT_EIS@poh01.usace.army.mil.

SUPPLEMENTARY INFORMATION: The SBCT Final EIS analyzes three alternative courses of action with respect to the transformation of the 2nd Brigade, 25th Infantry Division in Hawaii: (1) The transformation of the 2nd Brigade, 25th Infantry Division (Light) to an SBCT with a range of supporting activities including new, additional, or modified ranges, facilities and infrastructure and acquisition of approximately 1,400 acres of additional training lands on the island of Oahu and 23,000 acres on the island of Hawaii (preferred alternative); (2) the transformation of the 2nd Brigade, 25th Infantry Division (Light) to an SBCT with a range of supporting activities including new, additional, or modified ranges, facilities and infrastructure, and acquisition of approximately 100 acres of additional training lands on the island of Oahu and 23,000 acres on the island of Hawaii; (3) the no action alternative, under which no transformation would occur in the near term and training would continue as currently exists.

Copies of the SBCT Final EIS are available for review at the following libraries: Hilo Public Library, 300 Waianuenue Avenue, Hilo; Kailua-Kona Public Library, 75-138 Hualalai Road, Kailua-Kona; Thelma Parker Memorial Public and School Library, 96767-1209 Mamalahoa Highway, Kamuela; Kahuku Public and School Library, 56-490 Kamehameha Highway, Kahuku; Mililani Public Library, 95-450 Makaimoimo Street, Mililani; Hawaii State Library, 478 South King Street, Honolulu; Wahiawa Public Library, 820 California Avenue, Wahiawa; Waianae Public Library, 85-625 Farrington Highway., Waianae; Waialua Public Library, 67-068 Kealohanui Street, Waialua; UH Environmental Center, Krauss Annex 19, 2500 Dole Road, Honolulu.

The Final EIS also may be reviewed at the SBCT Web Site http://www.SBCTEIS.com.

Dated: May 18, 2004.
Raymond J. Fatz,
Deputy Assistant Secretary of the Army, (Environment, Safety and Occupational Health), OASA(I&E).

[FR Doc. 04-11752 Filed 5-24-04; 8:45 am]

BILLING CODE 3710-08-M